DEPARTMENT OF DEFENSE

Office of the Secretary

[Docket ID DoD-2014-OS-0065]

Privacy Act of 1974; System of Records

AGENCY: Office of the Secretary of Defense, DoD.

ACTION: Notice to alter a system of records.

SUMMARY: The Office of the Secretary of Defense proposes to alter a system of records, DWHS P29, entitled “Personnel Security Adjudications File”, in its inventory of record systems subject to the Privacy Act of 1974, as amended. This system will used by officials of the DoD Consolidated Adjudication Facility (CAF) to adjudicate personnel security investigations (initial, periodic and continuous) and incidents resulting in the issuance, denial, suspension or revocation of an individual's personnel security eligibility. Records are also used by officials of the DoD CAF to adjudicate favorable suitability and HSPD-12 determinations.

DATES: Comments will be accepted on or before June 12, 2014. This proposed action will be effective the date following the end of the comment period unless comments are received which result in a contrary determination.

ADDRESSES: You may submit comments, identified by docket number and title, by any of the following methods:

* Federal Rulemaking Portal: http://www.regulations.gov.

Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at the Defense Privacy and Civil Liberties Office Web site at http://dpclo.defense.gov/.

The proposed system report, as required by U.S.C. 552a(r) of the Privacy Act of 1974, as amended, was submitted on May 8, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: May 8, 2014.
Aaron Siegel,
Alternate OSD Federal Register Liaison Officer, Department of Defense.

DWHS P29

Personnel Security Adjudications File (June 7, 1995, 60 FR 30071).

Changes:

* * * * *

System name:

Delete entry and replace with “Personnel Security, Suitability, and Homeland Security Presidential Directive 12 (HSPD-12) Adjudications.”

System location:

Delete entry and replace with “Department of Defense (DoD) Consolidated Adjudications Facility (CAF), 600 10th Street, Ft. Meade, MD 20755-5615.”

Categories of individuals covered by the system:

Delete entry and replace with “DoD civilian employees, federal contractor personnel, consultants, military personnel, and other persons whose personnel security, suitability, and HSPD-12 eligibility are adjudicated by the DoD CAF.”

Categories of records in the system:

Delete entry and replace with “Records relating to the adjudication of an individual's personnel security, suitability and HSPD-12 eligibility. Full name (e.g., current, former, alternate, alias, or alternate spelling); date of birth (DoB); place of birth (PoB); age; identification types and numbers (e.g., Social Security Number (SSN), DoD identification number, driver's license, passport).”

Authority for maintenance of the system:

Delete entry and replace with “E.O. 10450, as amended, Security Requirements for Government Employment; E.O. 10865, as amended, Safeguarding Classified Information Within Industry; E.O. 12829, as amended, National Industrial Security Program; E.O. 12968, as amended, Access to Classified Information; E.O. 13467 Reforming Processes Related to Suitability for Government Employment, Fitness for Contractor Employees and Eligibility for Access to Classified National Security Information; E.O. 13488 Granting Reciprocity on Excepted Service and Federal Contractors Employee Fitness and Reinvestigating Individuals in Positions of Public Trust; DoD Instruction (DoDI) 1400.25, Volume 731, DoD Civilian Personnel Management System: Suitability and Fitness Adjudication for Civilian Employees; DoDI 5200.02, DoD Personnel Security Program (PSP); DoDI 5220.22, National Industrial Personnel Security Program (NISP); DoD Regulation 5200.2R, DoD Personnel Security Program (PSP); DoD Manual 5105.21, Volume 1, Sensitive Compartmented Information Administrative Security Manual; Director of National Intelligence, Intelligence Community Directive Number 704, Personnel Security Standards and Procedures Governing Eligibility for Access to Sensitive Compartmented Information and Other Controlled Access Program Information; Homeland Security Presidential Directive-12 (HSPD-12), Policy for a Common Identification Standard for Federal Employees and Contractors; Office of Personnel Management Memorandum, Final Credentialing Standards for Issuing Personal Identity Verification Cards under HSPD-12; and authorities cited therein; and E.O. 9397 (SSN), as amended.”

Purpose(s):

Delete entry and replace with “To be used by officials of the DoD CAF to adjudicate personnel security investigations (initial, periodic and continuous) and incidents resulting in the issuance, denial, suspension or revocation of an individual's personnel security eligibility. Records are also used by officials of the DoD CAF to adjudicate favorable suitability and HSPD-12 determinations.

To be used by members of the Military Department Personnel Security Appeal Boards (PSABs); Washington Headquarters Services Clearance Appeal Board; and the Defense Office of Hearings and Appeals to determine appeals of personnel security eligibility denials and revocations.

Decision documents may be provided to appropriate personnel offices to effect personnel actions.”

Routine uses of records maintained in the system, including categories of users and the purposes of such uses:

Delete entry and replace with “In addition to those disclosures generally permitted under 5 U.S.C. 552a(b) of the Privacy Act of 1974, as amended, these records contained herein may be disclosed outside the DoD as a routine use pursuant to 5 U.S.C. 552a(b)(3) as follows:

The following DoD Blanket Routine Uses apply:

1. Law Enforcement Routine Use.

3. Disclosure of Requested Information Routine Use.

4. Congressional Inquiries Disclosure Routine Use.

6. Disclosures Required by International Agreements Routine Use.

9. Disclosure to the Department of Justice for Litigation Routine Use.

12. Disclosure of Information to the National Archives and Records Administration Routine Use.

13. Disclosure to the Merit Systems Protection Board Routine Use.

14. Counterintelligence Purpose Routine Use.

15. Data Breach remediation Purposes Routine Use.

16. Information Sharing Environment Routine Use.

The remaining DoD Blanket Routine Uses published at the beginning of the Office of the Secretary of Defense compilation of systems of records notices may apply to this system.”

Policies and practices for storing, retrieving, accessing, retaining, and disposing of records in the system:

Storage:

Delete entry and replace with “Paper file folders and electronic media.”

Retrievability:

Delete entry and replace with “Records are retrieved by last name of subject or by SSN.”

Safeguards:

Delete entry and replace with “Records are stored on a secure military installation and in a building with 24-hour controlled access. Access to offices requires swipe access with Common Access Card and PIN. Records are maintained under the direct control of office personnel in the Consolidated Adjudications Facility during duty hours. Office is locked at all times and alarmed when unoccupied. Access to all records is role based and access to electronic records requires use of Common Access Card and PIN. Electronic records are stored on a DoD Information Assurance Certification and Accreditation Process approved IT system. All personnel are required to take Privacy training annually.”

* * * * *

System manager(s) and address:

Delete entry and replace with “Director, DoD Consolidated Adjudications Facility, 600 10th Street, Ft. Meade, MD 20755-5615.”

Notification procedure:

Delete entry and replace with “Individuals seeking to determine whether information about themselves is contained in this system should address written inquiries to Privacy Access Requests, DoD Consolidated Adjudications Facility, 600 10th Street, Ft. Meade, MD 20755-5615.

Requesters should provide full name and any former names used, date and place of birth, and SSN.”

Record access procedures:

Delete entry and replace with “Individuals seeking access to information about themselves contained in this system of records should address written inquiries to Privacy Access Requests, DoD Consolidated Adjudications Facility, 600 10th Street, Ft. Meade, MD 20755-5615.

A request for information must contain the full name and any former names used, and SSN of the subject individual and address where the records are to be returned.

In addition, the requester must provide a notarized statement or an unsworn declaration made in accordance with 28 U.S.C. 1746, in the following format:

If executed without the United States: ‘I declare (or certify, verify, or state) under penalty of perjury under the laws of the United States of America that the foregoing is true and correct. Executed on (date). (Signature).'

If executed within the United States, its territories, possessions, or commonwealths: ‘I declare (or certify, verify, or state) under penalty of perjury that the foregoing is true and correct. Executed on (date). (Signature).'

Attorneys or other persons acting on behalf of an individual must provide written authorization from that individual for their representative to act on their behalf.”

Contesting record procedures:

Delete entry and replace with “The OSD rules for accessing records, for contesting contents and appealing initial agency determinations are contained in OSD Administrative Instruction No. 81; 32 CFR part 311; or may be obtained from the system manager.”

Record source categories:

Delete entry and replace with “Information is received from individuals, their attorneys and other authorized representatives; investigative reports from Federal investigative agencies; personnel security records and correspondence; medical and personnel records, reports and evaluations; correspondence from employing agencies; DoD personnel security systems and processes (e.g., Joint Personnel Adjudication System, Continuous Evaluation); and DoD and other Federal organizations, agencies and offices.”

* * * * *

[FR Doc. 2014-10939 Filed 5-12-14; 8:45 am]

BILLING CODE 5001-06-P